DEPARTMENT OF LABOR

Employment and Training Administration

[TA-W-61,568]

Tenneco Inc., Walker Manufacturing, Harrisonburg, VA; Notice of Termination of Investigation

Pursuant to Section 221 of the Trade Act of 1974, as amended, an investigation was initiated on May 23, 2007 in response to a petition filed by a company official on behalf of workers at Tenneco Inc., Walker Manufacturing, Harrisonburg, Virginia.

The petitioner has requested that the petition be withdrawn. Consequently, the investigation has been terminated.

Signed at Washington, DC, this 30th day of May, 2007.
Linda G. Poole,
Certifying Officer, Division of Trade Adjustment Assistance.

[FR Doc. E7-11020 Filed 6-6-07; 8:45 am]

BILLING CODE 4510-FN-P